DEPARTMENT OF DEFENSE

Department of the Army

Notice of Availability for Exclusive, Non-Exclusive, or Partially-Exclusive Licensing of an Invention Concerning a Device and Method for Inducing Brain Injury in Animal Test Subjects

AGENCY: Department of the Army, DoD.

ACTION: Notice.

SUMMARY: Announcement is made of the availability for licensing of the invention set forth in U.S. Provisional Patent Application Serial No. 61/521,446, entitled “A Device and Method for Inducing Brain Injury in Animal Test Subjects,” filed on August 9, 2011. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates a device and method for inducing brain injury in animal test subjects through inflicting pressure-wave or projectile-mediated concussions.

Brenda S. Bowen,
Army Federal Register Liaison Officer.

[FR Doc. 2011-26584 Filed 10-13-11; 8:45 am]

BILLING CODE 3710-08-P